COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List services to be furnished by nonprofit agencies employing persons who are blind or have other severe disabilities.

Comments Must be Received on or Before: July 25, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions. If the Committee approves the proposed additions, the entities of the Federal government identified in the notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Custodial Services; Colville NF Ranger Station; 255 W 11th St., Kettle Falls, Washington.

NPA: Career Connections, Spokane, Washington.

Contract Activity: USDA Forest Service, Colville, Washington.

Service Type/Location: Custodial Services; Grissom Air Reserve Base; 448 Mustang Avenue, Grissom ARB, Indiana.

NPA: Wabash Center, Inc., Lafayette, Indiana.

Contract Activity: Air Force Reserve Command, Grissom ARB, Indiana.

Service Type/Location: Custodial Services; Ranger Station/Comp Bldg.; 765 S Main, Colville, Washington.

NPA: Career Connections, Spokane, Washington.

Contract Activity: USDA Forest Service, Colville, Washington.

Service Type/Location: Document Image Conversion for Disability Claims. At the following Social Security Administration Regions ServiceSource, Inc., Alexandria, Virginia will be the Prime Contractor for this project and will subcontract the requirements to the Nonprofit Agencies identified below: Mid Region (ND, SD, MN, IA, WI, MI, IL, IN, OH, KY, TN, MO, MT, WY, CO, NE, KS, OK).

NPA: AccessAbility, Inc., Minneapolis, Minnesota.

NPA: Bayaud Industries, Inc., Denver, Colorado.

NPA: Business Technology Career Opportunities (BTCO), Wichita, Kansas.

NPA: Goodwill Industries of Kentucky, Louisville, Kentucky; North East Region (MD, VA, WV, DC, DE, PA, NJ, NY, RI, CT, MA, VT, NH, ME).

NPA: Opportunity Center, Incorporated, Wilmington, Delaware.

NPA: ServiceSource, Inc., Alexandria, Virginia; South East Region (NC, SC, GA, AL, MS, FL, PR).

NPA: Abilities Inc. of Florida, Clearwater, Florida; West-SW Region (CA, NV, UT, AZ, NM, TX, AR, LA, WA, OR, ID, AK, HI).

NPA: DePaul Industries, Portland, Oregon.

NPA: Goodwill Industries of San Antonio, San Antonio, Texas.

NPA: Hope Services, Santa Clara, California.

NPA: The Centers for Habilitation/TCH, Tempe, Arizona.

Contract Activity: Social Security Administration, Baltimore, Maryland.

Sheryl D. Kennerly,
Director, Information Management.

[FR Doc. 04-14453 Filed 6-24-04; 8:45 am]

BILLING CODE 6353-01-P